DEPARTMENT OF TRANSPORTATION

Federal Aviation Administration

Eighty-Fifth Meeting: RTCA Special Committee 159: Global Positioning System (GPS)

AGENCY: Federal Aviation Administration (FAA), DOT.

ACTION: Notice of RTCA Special Committee 159 meeting: Global Positioning System (GPS).

SUMMARY: The FAA is issuing this notice to advise the public of a meeting of RTCA Special Committee 159: Global Positioning System (GPS).

DATES: The meeting will be held May 26, 2011, from 9 a.m. to 11:45 a.m.

ADDRESSES: The meeting will be held at RTCA, Inc., NBAA—McIntosh and ATA—Hilton Conference Rooms, 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., App 2), notice is hereby given for a Special Committee 159: Global Positioning System (GPS) meeting. The agenda will include:

Plenary Session

May 26, 2011

• Chairman's Introductory Remarks.

• Approval of Summary of the Eighty-Fourth Meeting held February 11, 2011, RTCA Paper No. 082-11/SC159-991.

• Review/Approval of Proposed Final Report—Assessement of the LightSquared Ancillary Terrestrial Component Radio Frequency Interference Impact on GNSS L1 Band Airborne Receiver Operations.

• Other Business.

• Date and Place of Next Meeting.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 6, 2011.
Robert L. Bostiga,
RTCA Advisory Committee.

[FR Doc. 2011-11577 Filed 5-11-11; 8:45 am]

BILLING CODE 4910-13-P